DEPARTMENT OF TRANSPORTATION

Federal Aviation Administration

Proposed Advisory Circular (AC) 65-25C, Aviation Maintenance Technician Awards Program

AGENCY: Federal Aviation Administration (FAA), DOT.

ACTION: Notice of availability of proposed AC, and request for comments.

SUMMARY: This notice announces the availability of and requests comments on a proposed AC that provides guidance on the requirements for participation in the FAA Aviation Maintenance Technician (AMT) Awards Program.

DATES: Submit comments on or before September 16, 2004.

ADDRESSES: Send all comments on the proposed AC to William O'Brien, Aircraft Maintenance Division (AFS-300), Federal Aviation Administration, 800 Independence Ave., SW., Washington, DC 20591; facsimile (202) 267-5115; e-mail william.o'brien@faa.gov.

FOR FURTHER INFORMATION CONTACT: William O'Brien, AFS-300, at the address, facsimile, or e-mail listed above, or by telephone at (202) 267-3796.

SUPPLEMENTARY INFORMATION:

Comments Invited

The proposed AC 65-25C is available on the FAA's Regulatory Guidance Library Web site at http://www.airweb.faa.gov/rgl, under the Draft Advisory Circulars link. Interested persons are invited to comment on the proposed AC by submitting written data, views, or arguments as they may desire. Please identify AC 65-25C, Aviation Maintenance Technician Awards Program, and submit comments, either hardcopy or electronic, to the appropriate address listed above.

Comments may be inspected at the above address between 9 a.m. and 4 p.m. weekdays, except Federal holidays.

Issued in Washington, DC, on June 3, 2004.
James J. Ballough,
Director, Flight Standards Service.

[FR Doc. 04-13838 Filed 6-17-04; 8:45 am]

BILLING CODE 4910-13-M